ADVISORY COUNCIL ON HISTORIC PRESERVATION

Notice of Availability of Environmental Assessment and Preliminary Finding of No Significant Impact

AGENCY: Advisory Council on Historic Preservation.

ACTION: Notice of Availability of Environmental Assessment and Preliminary Finding of No Significant Impact.

SUMMARY: An environmental assessment on the Council's proposed regulatory revisions of its rule, published in this issue of the Federal Register, was prepared in accordance with the National Environmental Policy Act (NEPA), 42 U.S.C. 4321 et seq., and the Advisory Council on Historic Preservation's NEPA regulations, 36 CFR part 805. The proposed rule implements Section 106 of the National Historic Preservation Act. The environmental assessment made a preliminary determination that promulgation of the revised rule will not have a significant impact on the quality of the human environment and that preparation of an environmental impact statement will not be necessary. Copies of the environmental assessment and preliminary finding of no significant impact may be obtained by contacting the person listed below. Those interested may submit comments on the environmental assessment and preliminary finding of no significant impact to the address listed below no later than August 10, 2000.

FOR FURTHER INFORMATION CONTACT: Javier Marques, Assistant General Counsel, Advisory Council on Historic Preservation, 1100 Pennsylvania Avenue, Suite 809, Washington, DC 20004. (202) 606-8503.

Dated: June 30, 2000.
John M. Fowler,
Executive Director.

[FR Doc. 00-17156 Filed 7-10-00; 8:45 am]

BILLING CODE 4310-10-M